Title 3—

The President

Memorandum of February 17, 2012

Maximizing the Effectiveness of Federal Programs and Functions Supporting Trade and Investment

Memorandum for the Heads of Executive Departments and Agencies

Winning the future and creating an economy that's built to last will require the Federal Government to wisely allocate scarce resources to maximize efficiency and effectiveness so that it can best support American competitiveness, innovation, and job growth. Creating good, high-paying jobs in the United States and ensuring sustainable economic growth are the top priorities of my Administration. To accomplish these goals, we must ensure that U.S. businesses increase their exports of goods, services, and agricultural products, and that foreign companies recognize the United States as an attractive place to invest and to open businesses. While this growth will be fueled by the private sector, the Federal Government must do its part to facilitate trade and investment.

Executive Order 13534 of March 11, 2010, established the Export Promotion Cabinet to coordinate the development and implementation of the National Export Initiative (NEI) to improve conditions that directly affect the private sector's ability to export and to help meet my Administration's goal of doubling exports over 5 years. Pursuant to the terms of the Executive Order, the Export Promotion Cabinet conducts its work in coordination with the Trade Promotion Coordinating Committee (TPCC). The TPCC, chaired by the Secretary of Commerce, was authorized by statute in 1992 (15 U.S.C. 4727) and established by Executive Order 12870 of September 30, 1993. The NEI has used Government resources and policies to increase exports at a pace consistent with the goal of doubling exports by the end of 2014. The NEI has accomplished this by opening up foreign markets for U.S. exports, enhancing enforcement of our trade laws, providing needed export financing, advocating on behalf of U.S. firms, and otherwise facilitating U.S. exports. But we must do more.

On January 13, 2012, I announced that I would submit a legislative proposal seeking the authority to reorganize the Federal Government in order to reduce costs and consolidate agencies (Consolidation Authority), and outlined the first use I would make of such authority: to streamline functions currently dispersed across numerous agencies into a single new department to promote competitiveness, exports, and American business. The new department would integrate and streamline trade negotiation, financing, promotion, and enforcement functions currently housed at half a dozen executive departments and agencies, and would include an office dedicated to expanding foreign investment and assisting businesses that are considering investing in the United States. In addition to the trade and investment functions, the new department would include integrated small business, technology, innovation, and statistics programs and services from a number of departments and agencies, thereby creating a one-stop shop for businesses that want to grow and export. We cannot afford to wait until the Congress acts, however, and must do all we can administratively to make the most efficient and effective use of the Federal Government's trade, foreign investment, export, and business programs and functions.

Accordingly, to further enhance and coordinate Federal efforts to facilitate the creation of jobs in the United States and ensure sustainable economic growth through trade and foreign investment, and to ensure the effective and efficient use of Federal resources in support of these goals, I hereby direct the following:

(1) Program Coordination. In coordination with the TPCC, the Export Promotion Cabinet shall develop strategies and initiatives in support of my Administration's strategic trade and investment goals and priorities, including the specific measures outlined in this memorandum. The Assistant to the President and Deputy National Security Advisor for International Economics shall coordinate the activities of the Export Promotion Cabinet pursuant to this memorandum. Measures and progress shall continue to be reported in the annual National Export Strategy report of the TPCC. The TPCC will continue to function as it has, consistent with its statutorily mandated duties.

(2) Improving Customer Service for Exporters. Consistent with my memorandum of October 28, 2011 (Making it Easier for America's Small Businesses and America's Exporters to Access Government Services to Help Them Grow and Hire), the Export Promotion Cabinet shall support the Steering Committee established pursuant to that memorandum in its efforts to create BusinessUSA, a common, open, online platform and web service that will, among other things, enable exporters to seamlessly access information about export-related Government programs, resources, and services regardless of which agency provides them.

(3) Trade Budget. The Export Promotion Cabinet shall, in consultation with the TPCC:

(a) evaluate the allocation of Federal Government resources to assist with trade financing, negotiation, enforcement, and promotion, as well as the encouragement of foreign investment in the United States, and identify potential savings from streamlining overlapping or duplicative programs, as well as areas in need of additional resources;

(b) make recommendations to the Director of the Office of Management and Budget (OMB) for more effective resource allocation to these functions, consistent with my Administration's strategic trade and investment goals and priorities, including recommendations to streamline overlapping and duplicative programs and reallocate those resources; and

(c) present to the Director of OMB for consideration in the annual process for developing the President's Budget, a proposed unified Federal trade budget, consistent with my Administration's strategic trade and investment goals and priorities.

(4) Coordination of Offices and Staff. The Export Promotion Cabinet, in consultation with the TPCC, shall take steps to ensure the most efficient use of its members' domestic and foreign offices and distribution networks, including: co-locating offices wherever appropriate; cross-training staff to better serve business customers at home and abroad by promoting exports to foreign countries and foreign investment in the United States; and considering the effectiveness of commercial diplomacy, cross-training, and referrals, as appropriate, when evaluating employee performance.

(5) Enhancing Business Competitiveness. Pending passage of legislation providing Consolidation Authority, the Export Promotion Cabinet shall work with the National Economic Council to develop and coordinate administrative initiatives to align and enhance programs that enable and support efforts by American businesses, particularly small businesses, to innovate, grow, and increase exports.

(6) General Provisions (a) This memorandum shall be implemented consistent with applicable law and subject to the availability of appropriations.

(b) Nothing in this memorandum shall be construed to impair or otherwise affect:

(i) authority granted by law to a department or agency, or the head thereof; or

(ii) functions of the Director of OMB relating to budgetary, administrative, or legislative proposals.

(c) This memorandum is not intended to, and does not, create any right or benefit, substantive or procedural, enforceable at law or in equity by any party against the United States, its departments, agencies, or entities, its officers, employees, or agents, or any other person.

(d) The Director of OMB is hereby authorized and directed to publish this memorandum in the Federal Register.

THE WHITE HOUSE,

Washington, February 17, 2012

[FR Doc. 2012-4438

Filed 2-22-12; 11:15 am]

Billing code 3110-01-P